FEDERAL COMMUNICATIONS COMMISSION

Notice of Public Information Collection(s) Being Reviewed by the Federal Communications Commission

March 4, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 15, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-1046.

Title: Implementation of the Pay Telephone Reclassification and Compensation Provisions of the Telecommunications Act of 1996, CC Docket No. 96-128, Report and Order (final rules).

Form No: N/A.

Type of Review: Revision of a currently approved collection.

Respondents: Business or other for-profit.

Number of Respondents: 1,023 respondents; 4,854 responses.

Estimated Time Per Response: 100 hours.

Frequency of Response: Annual and quarterly reporting requirements, recordkeeping requirement and third party disclosure requirement.

Total Annual Burden: 485,400 hours.

Total Annual Cost: N/A.

Needs and Uses: In CC Docket No. 96-128, FCC 03-235, Report and Order, the Commission promulgated rules and requirements under Section 276 of the Act that every payphone service provider be fairly compensated for every completed payphone call made from one of their payphones. The rules require: (1) Each Switch-Based Reseller (SBR) to establish and maintain an accurate call tracking system, and have that system audited for accuracy by a third party; (2) require SBR's to provide quarterly reports to each PSP containing compensation with supporting data; and (3) require each facilities-based long distance carrier (intermediate carrier) that switches payphone calls to other facilities-based long distance carriers to provide each PSP with quarterly reports that include a list of all the facilities-based long distance carriers to which the intermediate carrier switch toll-free and access code calls dialed from each of that payphone service provider's payphones.

Federal Communications Commission.
Marlene H. Dortch,
Secretary.

[FR Doc. 04-5910 Filed 3-15-04; 8:45 am]

BILLING CODE 6712-01-P